DEPARTMENT OF TRANSPORTATION

Federal Aviation Administration

14 CFR Part 39

[Docket No. 2001-NM-402-AD; Amendment 39-13609; AD 2004-09-20]

RIN 2120-AA64

Airworthiness Directives; Gulfstream Aerospace LP Model 1125 Westwind Astra Series Airplanes

AGENCY: Federal Aviation Administration, DOT.

ACTION: Final rule.

SUMMARY: This amendment supersedes an existing airworthiness directive (AD), applicable to certain Gulfstream Aerospace LP Model 1125 Westwind Astra series airplanes, that currently requires revising the airplane flight manual (AFM) to provide the flight crew with operational guidance under certain failure conditions and a limitation not to engage the long-range navigation system during takeoff, approach, or landing. This amendment requires replacing the low-voltage sensing relays with higher-accuracy relays, and replacing the circuit breakers of the directional gyros with circuit breakers with lower amps. After the replacements have been accomplished, this amendment also requires inserting a new temporary revision in the Limitations section of the AFM, or removing the revision to the AFM required by the previous AD. The actions specified by this AD are intended to prevent the loss of primary attitude and directional gyros, which relate position information to the flight crew. This action is intended to address the identified unsafe condition.

DATES: Effective June 15, 2004.

The incorporation by reference of a certain publication, as listed in the regulations is approved by the Director of the Federal Register as of June 15, 2004.

The incorporation by reference of Temporary Revision No. 9, dated May 21, 2000, to the Israel Aircraft Industries, Ltd., Astra Airplane Flight Manual, as listed in the regulations, was approved previously by the Director of the Federal Register as of September 29, 2000 (65 FR 55450, September 14, 2000).

ADDRESSES: The service information referenced in this AD may be obtained from Gulfstream Aerospace Corporation, P.O. Box 2206, Mail Station D25, Savannah, Georgia 31402. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2000-18-11, amendment 39-11896 (65 FR 55450, September 14, 2000), which is applicable to certain Gulfstream Aerospace LP (Formerly Israel Aircraft Industries, Ltd.) Model 1125 Westwind Astra series airplanes, was published in the Federal Register on February 9, 2004 (69 FR 5936). The action proposed to require replacing the low-voltage sensing relays with higher-accuracy relays, and replacing the circuit breakers of the directional gyros with circuit breakers with lower amps. After the replacements have been accomplished, the action also proposed to require inserting a new temporary revision (TR) in the Limitations section of the AFM, or removing the revision to the AFM required by the previous AD (AD 2000-18-11).

Comments

Interested persons have been afforded an opportunity to participate in the making of this amendment. No comments were submitted in response to the proposal or the FAA's determination of the cost to the public.

Clarification of Document Citations in This Final Rule

Operators should note that the manufacturer of the subject airplanes, previously Israel Aircraft Industries, Ltd., is now Gulfstream Aerospace LP. In order to meet the Office of the Federal Register's (OFR) guidelines for materials incorporated by reference, document citations must include the name of the manufacturer. Therefore, we have revised certain document citations in this final rule to include the manufacturer's current name. However, we have not revised the citation for Temporary Revision No. 9, which was previously incorporated by reference in AD 2000-18-11. The OFR guidelines require documents previously incorporated by reference to be cited exactly as they were originally approved.

Conclusion

The FAA has determined that air safety and the public interest require the adoption of the rule as proposed.

Cost Impact

There are approximately 29 airplanes of U.S. registry that will be affected by this AD.

The actions that are currently required by AD 2000-18-11 take approximately 1 work hour per airplane to accomplish, at an average labor rate of $65 per work hour. Based on these figures, the cost impact of the previously required actions on U.S. operators is estimated to be $1,885, or $65 per airplane.

The new actions that are required by this new AD will take approximately 24 work hours per airplane to accomplish for the replacements, and approximately 1 work hour per airplane to accomplish for the revision of the AFM. The average labor rate is $65 per work hour. Required parts will cost approximately $1,030 per airplane. Based on these figures, the cost impact of the new requirements of this AD on U.S. operators is estimated to be $76,995, or $2,655 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11896 (65 FR 55450, September 14, 2000), and by adding a new airworthiness directive (AD), amendment 39-13609, to read as follows:

2004-09-20 Gulfstream Aerospace LP (Formerly Israel Aircraft Industries, Ltd.): Docket 2001-NM-402-AD: Amendment 39-13609. Supersedes AD 2000-18-11, Amendment 39-11896.

Applicability: Model 1125 Westwind Astra series airplanes, certificated in any category; serial numbers 004 through 029 inclusive, and 031 through 041 inclusive.

Compliance: Required as indicated, unless accomplished previously.

To prevent the loss of primary attitude and directional gyros, which relate position information to the flight crew, accomplish the following:

Restatement of the Requirements of AD 2000-18-11

AFM Revision

(a) Within 10 days after September 29, 2000 (the effective date of AD 2000-18-11, amendment 39-11896), revise the Limitations and Abnormal Procedures Sections of the Israel Aircraft Industries, Ltd., Astra Airplane Flight Manual (AFM) by inserting a copy of Temporary Revision No. 9, dated May 21, 2000, into the AFM.

Note 1: When the temporary revision required by paragraph (a) of this AD has been incorporated into the general revisions of the AFM, the general revisions may be inserted into the AFM, provided that the information contained in the general revisions is identical to that specified in the temporary revision.

New Requirements of This AD

Replacements

(b) Within 50 flight hours after the effective date of this AD: Replace existing sensing relays with new higher-accuracy relays having new part number (P/N) 1350-X3042; and replace existing DIRECT GYRO 1 and 2 circuit breakers having P/N 7274-47-3 with new circuit breakers having new P/N 7274-47-0.5; in accordance with the Accomplishment Instructions of Astra (Gulfstream Aerospace Corporation) Alert Service Bulletin 1125-24A-246, dated September 26, 2001.

New AFM Revision

(c) Before further flight following the actions required by paragraph (b) of this AD: Remove Temporary Revision No. 9, dated May 21, 2000, from the AFM; or revise the Limitations and Abnormal Procedures Sections of the Israel Aircraft Industries, Ltd. (Gulfstream Aerospace LP), Astra AFM by inserting a copy of Temporary Revision 13, dated October 31, 2001, into the AFM.

Note 2: When the temporary revision required by paragraph (c) of this AD has been incorporated into the general revisions of the AFM, the general revisions may be inserted into the AFM, provided that the information contained in the general revisions is identical to that specified in the temporary revision.

No Reporting Requirement

(d) Operators should note that, although the Accomplishment Instructions of the service bulletin referenced in paragraph (b) of this AD describe procedures for submitting a certificate of compliance to the manufacturer, this AD does not require those actions.

Alternative Methods of Compliance

(e) In accordance with 14 CFR 39.19, the Manager, International Branch, ANM-116, FAA, Transport Airplane Directorate, is authorized to approve alternative methods of compliance (AMOCs) for this AD.

Incorporation by Reference

(f) The actions shall be done in accordance with Astra (Gulfstream Aerospace Corporation) Alert Service Bulletin 1125-24A-246, dated September 26, 2001; Temporary Revision No. 9, dated May 21, 2000, to the Israel Aircraft Industries, Ltd., Astra Airplane Flight Manual; and Temporary Revision 13, dated October 31, 2001, to the Israel Industries, Ltd. (Gulfstream Aerospace LP), Astra Airplane Flight Manual; as applicable.

(1) The incorporation by reference of Astra (Gulfstream Aerospace Corporation) Alert Service Bulletin 1125-24A-246, dated September 26, 2001; and Temporary Revision 13, dated October 31, 2001, to the Israel Aircraft Industries, Ltd. (Gulfstream Aerospace LP) Astra Airplane Flight Manual; is approved by the Director of the Federal Register in accordance with 5 U.S.C. 522(1) and 1 CFR part 51.

(2) The incorporation by reference of Temporary Revision No. 9, dated May 21, 2000, to the Israel Aircraft Industries, Ltd., Astra Airplane Flight Manual, was approved previously by the Director of the Federal Register as of September 29, 2000 (65 FR 55450, September 14, 2000).

(3) Copies may be obtained from Gulfstream Aerospace Corporation, P.O. Box 2206, Mail Station D-25, Savannah, Georgia 31402. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 3: The subject of this AD is addressed in Israeli airworthiness directive 24-01-06-04, dated November 13, 2001.

Effective Date

(g) This amendment becomes effective on June 15, 2004.

Issued in Renton, Washington, on April 21, 2004.
Kalene C. Yanamura,
Acting Manager, Transport Airplane Directorate, Aircraft Certification Service.

[FR Doc. 04-10249 Filed 5-10-04; 8:45 am]

BILLING CODE 4910-13-P